DEPARTMENT OF ENERGY

Federal Energy Regulatory Commission

Notice of Meeting; Notice of Vote; Explanation of Action Closing Meeting; and List of Persons to Attend

Date: July 12, 2007.

The following notice of meeting is published pursuant to section 3(a) of the Government in the Sunshine Act (Pub. L. 94-409), 5 U.S.C. 552b:

Agency Holding Meeting: Federal Energy Regulatory Commission.

Date and Time: July 19, 2007, Following regular commission meeting.¹

¹ The Commission's open meeting is scheduled to start at 10 a.m. in Room 2C.

Place: Room 2C, Commission Meeting Room, 888 First Street, NE., Washington, DC 20426.

Status: Closed.

Matters To Be Considered: Non-public investigations and inquiries, enforcement related matters.

Contact Person For More Information: Kimberly D. Bose, Secretary, Telephone (202) 502-8400.

Chairman Kelliher and Commissioners Kelly, Spitzer, Moeller, and Wellinghoff voted to hold a closed meeting on July 19, 2007. The certification of the General Counsel explaining the action closing the meeting is available for public inspection in the Commission's Public Reference Room at 888 First Street, NE., Washington, DC 20426.

The Chairman and the Commissioners, their assistants, the Commission's Secretary, the General Counsel and members of his staff, and a stenographer are expected to attend the meeting. Other staff members from the Commission's program offices who will advise the Commissioners in the matters discussed will also be present.

Kimberly D. Bose,
Secretary.

[FR Doc. E7-13817 Filed 7-16-07; 8:45 am]

BILLING CODE 6717-01-P